FEDERAL RESERVE SYSTEM

Agency Information Collection Activities: Announcement of Board Approval Under Delegated Authority and Submission to OMB

AGENCY: Board of Governors of the Federal Reserve System.

SUMMARY: Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Cynthia Ayouch—Division of Research and Statistics, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503.

Final approval under OMB delegated authority of the extension for three years, with revision, of the following reports:

Report title: Report of Changes in Organizational Structure, Annual Report of Bank Holding Companies, and Annual Report of Foreign Banking Organizations.

Agency form number: FR Y-10, FR Y-10 verification, FR Y-6, and FR Y-7.

OMB Control number: 7100-0297.

Effective Date: The proposed changes to the FR Y-6 and FR Y-7 reporting forms and instructions will be effective December 31, 2012. The proposed changes to the FR Y-10 reporting form and instructions for foreign banking organizations (FBOs), top-tier bank holding companies (BHCs), state member banks that are not controlled by a BHC, Edge and agreement corporations that are not controlled by a member bank, a BHC, or a FBO; nationally chartered banks that are not controlled by a BHC (with regard to their foreign investments only), securities holding companies (SHCs), nonbank financial companies, and designated financial market utilities (DFMUs) will be effective December 1, 2012. The proposed changes to the FR Y-10 form and instructions for savings and loan holding companies (SLHCs) will be effective December 1, 2012, except for data on nonbank subsidiaries. SLHCs will file the FR Y-10 data by June 30, 2013, for their nonbank subsidiaries that meet the quarterly financial reporting criteria. SLHCs will file the FR Y-10 data by September 30, 2013, for their nonbank subsidiaries that file financial reports annually. SLHCS will file the FR Y-10 data by December 31, 2013, for their nonbank subsidiaries that do not file financial reports.

Frequency: FR Y-10: Event-generated; FR Y-10 verification: One-time; FR Y-6 and FR Y-7: Annual.

Reporters: FR Y-10: FBOs, top-tier BHCs, state member banks that are not controlled by a BHC, Edge and agreement corporations that are not controlled by a member bank, a BHC, or a FBO; nationally chartered banks that are not controlled by a BHC (with regard to their foreign investments only), SLHCs, SHCs, nonbank financial companies, and DFMUs; FR Y-6: top-tier BHCs and nonqualifying FBOs, SLHCs, SHCs, nonbank financial companies, and DFMUs; FR Y-7: all qualifying FBOs that engage in banking in the United States, either directly or indirectly.

Estimated annual reporting hours: FR Y-10: 25,313 hours; FR Y-10 verification: 956; FR Y-6: 29,253 hours; FR Y-7: 615 hours.

Estimated average hours per response: FR Y-10: 2.25 hours; FR Y-10 verification: 1.25 hours; FR Y-6: 5.25 hours; FR Y-7: 3.75 hours.

Number of respondents: FR Y-10: 3,750; FR Y-10 verification: 765; FR Y-6: 5,572; FR Y-7: 164.

General description of report: These information collections are mandatory under the Federal Reserve Act, the Bank Holding Company Act (BHC Act), and the International Banking Act (12 U.S.C. 248(a)(1), 321, 601, 602, 611a, 615, 625, 1843(k), 1844(c)(1)(A), 3106(a), and 3108(a)), and Regulations K and Y (12 CFR 211.13(c), 225.5(b) and 225.87), and Sections 161, 312, 618, and 809 of the Dodd-Frank Act (12 U.S.C. 5361, 5412, 1850a(c)(1), and 5468(b)(1)). Individual respondent data are not considered confidential. However, respondents may request confidential treatment for any information that they believe is subject to an exemption from disclosure under the Freedom of Information Act (FOIA), (5 U.S.C. 522(b)(4) and (b)(6)).

Abstract: The FR Y-10 is an event generated information collection submitted by FBOs; top-tier BHCs; state member banks unaffiliated with a BHC; Edge and agreement corporations that are not controlled by a state member bank, a BHC, or an FBO; and nationally chartered banks that are not controlled by a BHC (with regard to their foreign investments only) to capture changes in their regulated investments and activities. The Federal Reserve uses the data to monitor structure information on subsidiaries and regulated investments of these entities engaged in banking and nonbanking activities. The FR Y-6 is an annual information collection submitted by top-tier BHCs and nonqualifying FBOs. It collects financial data, an organization chart, verification of domestic branch data, and information about shareholders. The Federal Reserve uses the data to monitor holding company operations and determine holding company compliance with the provisions of the BHC Act, Regulation Y (12 CFR 225), and the Home Owners Loan Act. The FR Y-7 is an annual information collection submitted by qualifying FBOs to update their financial and organizational information with the Federal Reserve. The Federal Reserve uses information to assess an FBO's ability to be a continuing source of strength to its U.S. operations and to determine compliance with U.S. laws and regulations.

Current Actions: On June 11, 2012, the Federal Reserve published a notice in the Federal Register (77 FR 34384) requesting public comment for 60 days on the revision, with extension, of the FR Y-10, FR Y-7, and FR Y-6. The comment period for this notice expired on August 10, 2012. The Federal Reserve received three comment letters addressing proposed changes to the FR Y-10 and FR Y-6.

Summary of Comments

FR Y-6 and FR Y-10

The Federal Reserve received three comment letters on the proposed revisions to the FR Y-10 and the FR Y-6: two from bankers' organizations and one from a BHC.

The bankers' organizations expressed concerns on the proposed timeline to submit (as a supplement to the FR Y-10) a one-time verification of each SLHC's organizational structure. After considering these comments, the Federal Reserve will scale back the information collected in the one-time FR Y-10 verification to require only the information needed to submit nonbank financial data for 2013.¹ The Federal Reserve will also extend the timeline for the SLHCs to respond to the one-time verification from thirty days to sixty days. The information required in the one-time verification will be communicated in a transmittal letter.

¹ The changes to require SLHCs to submit financial data for their nonbank subsidiaries were covered in a separate proposal and the final notice was published December 29, 2011 (76 FR 81933).

The commenters also requested a phased approach for submitting the FR Y-6 and FR Y-10 data based on the schedule for submitting nonbank financial data that are due commencing in 2013. Last year the Federal Reserve issued a proposal with the requirement that SLHCs begin filing the annual FR Y-6 report with fiscal year ends beginning December 31, 2012.² Thus, the Federal Reserve believes SLHCs have had a reasonable transition period to prepare for the submission of the FR Y-6 report. However, the Federal Reserve recognizes the challenges to meet the proposed submission of the event-generated FR Y-10 data and agree that a phased-in approach for reporting nonbank subsidiaries on the FR Y-10 is appropriate. SLHCs will file the FR Y-10 data by June 30, 2013, for their nonbank subsidiaries that meet the quarterly financial reporting criteria. SLHCs will file the FR Y-10 data by September 30, 2013, for their nonbank subsidiaries that file financial reports annually. SLHCS will file the FR Y-10 data by December 31, 2013, for their nonbank subsidiaries that do not file financial reports.

² (76 FR 53129) August 25, 2011 and (76 FR 81933) December 29, 2011.

In addition, the bankers' organizations asked for clarification on the requirement for intermediate holding companies (IHC) to report the FR Y-6 and FR Y-10. The current regulatory reporting requirement that top-tier holding companies submit the FR Y-6 and FR Y-10 will continue until a separate proposed rule is issued on IHCs. At that time, the Federal Reserve will address the reporting requirements of the IHC.

The bankers' organizations also expressed concern about reporting on the activities of certain SLHCs, namely “grandfathered SLHCs” and requested that the instructions be clarified. While the activities of grandfathered SLHCs are exempt from the limitations in 12 CFR 238.51(b), there is no statutory or regulatory exemption from reporting on such activities. The reporting and examination requirements in the Home Owners' Loan Act and the Federal Reserve's Regulation LL apply to all SLHCs, with no exceptions for grandfathered SLHCs or their activities. Therefore, no changes will be made to the reporting requirements for grandfathered activities by certain SLHCs. However, the Federal Reserve will clarify the instructions of the reporting requirements for grandfathered SLHCs.

FR Y-10

The BHC suggested using the term “nonfinancial company” instead of “nonbanking company” on the 4(k) Schedule of the FR Y-10 whenever the reference is to nonfinancial investments held by a qualified financial holding company and reported in the lower section of the 4(k) Schedule. The Federal Reserve agrees and will replace the reference to nonbanking company with nonfinancial company on the 4(k) Schedule and instructions of the FR Y-10.

Final approval under OMB delegated authority the extension for three years, without revision, of the following report:

Report title: Supplement to the Report of Changes in Organizational Structure.

Agency form number: FR Y-10E.

OMB control number: 7100-0297.

Frequency: Event-generated.

Reporters: FBOs, top-tier bank holding companies (BHCs), state member banks that are not controlled by a BHC, Edge and agreement corporations that are not controlled by a member bank, a BHC, or a FBO; and nationally chartered banks that are not controlled by a BHC (with regard to their foreign investments only).

Estimated annual reporting hours: 1,875 hours.

Estimated average hours per response: 0.50 hours.

Number of respondents: 3,750.

General description of report: This information collection is mandatory under the Federal Reserve Act, the Bank Holding Company Act (BHC Act), and the International Banking Act (12 U.S.C. 248(a)(1), 321, 601, 602, 611a, 615, and 625, 1843(k), 1844(c)(1)(A), 3106(a)) and Regulation K and Y (12 CFR 211.13(c), 225.5(b) and 225.87) and Sections 161, 312, 618, and 809 of the Dodd-Frank Act (12 U.S.C. 5361, 5412, 1850a(c)(1), and 5468(b)(1)). Individual respondent data are not considered confidential. However, respondents may request confidential treatment for any information that they believe is subject to an exemption from disclosure under the Freedom of Information Act (FOIA), (5 U.S.C. 522(b)(4) and (b)(6)).

Abstract: The FR Y-10E is a free-form supplement that may be used to collect additional structural information deemed to be critical and needed in an expedited manner.

Current Actions: On June 11, 2012, the Federal Reserve published a notice in the Federal Register (77 FR 34384) requesting public comment for 60 days on the extension, without revision, of the Supplement to the Report of Changes in Organizational Structure (FR Y-10E). The comment period for this notice expired on August 10, 2012. The Federal Reserve did not receive any comments on the FR Y-10E.

Board of Governors of the Federal Reserve System, September 10, 2012.
Robert deV. Frierson,
Secretary of the Board.

[FR Doc. 2012-22591 Filed 9-13-12; 8:45 am]

BILLING CODE 6210-01-P